Proclamation 10252 of September 9, 2021

World Suicide Prevention Day, 2021

By the President of the United States of America

A Proclamation

Today, the United States joins the World Health Organization, the International Association for Suicide Prevention, and nations around the world in commemorating World Suicide Prevention Day by “creating hope through action.” On this day, and every day, we remember those lives lost to suicide. We also commit to connecting with those who are struggling and to encouraging communities, organizations, and governments to work together to prevent suicide.

Suicide often occurs in a moment of unbearable pain or deep despair. Many individuals with mental health needs are overcome with a sense of overwhelming hopelessness, and feel they have nowhere to turn.

Already, millions of Americans consider suicide, make a suicide plan, or attempt suicide every year—especially young Americans for whom suicide is the second leading cause of death. This number is even higher among LGBTQ+ and Native American youth.

In 2019, suicide was the 10th leading cause of death in the United States, and the second leading cause of death for young people between the ages of 10 and 34. And that was before the COVID-19 pandemic compounded, for many, feelings of isolation, exhaustion, and economic and public health-related anxieties. Increased rates of depression have sparked concern that we will see a further increase in suicide rates.

Too many of our Nation's veterans and active military service members have also considered suicide or taken their own lives. In many cases, they did not receive the mental health services they need and deserve. In order to fulfill our Nation's one sacred obligation to care for our troops and their families, I have made veteran suicide prevention a top priority. Earlier this year, I was proud to sign the Sgt. Ketchum Rural Veterans Mental Health Act of 2021 into law to provide additional mental health care for rural veterans. In my budget, I also requested $598 million to support the Department of Veterans Affairs suicide prevention outreach efforts.

I have proposed $180 million to fund suicide prevention programs at the Department of Health and Human Services' Substance Abuse and Mental Health Services Administration. This dedicated funding will support programming that focuses on suicide prevention at every age and stage of a person's life, as well as prevention and intervention programs through health systems. Knowing that our Nation's youth have been especially vulnerable to the mental health impacts of the COVID-19 pandemic, the American Rescue Plan I signed into law also includes $20 million in funding specifically for youth suicide prevention.

My Administration is committed to treating suicide as the public health problem it is and helping to address the underlying risk factors for suicide. For example, we are working to expand access to mental health and substance use treatment. We are ensuring health insurance plans act in accordance with the Paul Wellstone and Pete Domenici Mental Health Parity and Addiction Equity Act of 2008, and cover these critical services at the same level as physical health services.

While there is no one cause of suicide, we know there are many factors that increase a person's risk for suicide, including the loss of a job; serious illness; and financial, criminal, legal, and relationship problems.

Through the American Rescue Plan and my proposed Fiscal Year 2022 budget, we are working to mitigate these risk factors. The American Rescue Plan provided a third round of economic impact payments, established a homeowner assistance fund, and provided emergency rental assistance.

My Administration is also committed to addressing suicide by firearm. Firearms are responsible for over half of all suicide deaths in the United States. That is one of the reasons we have published model red flag laws for States—allowing family members and law enforcement to petition for a temporary firearms ban for individuals who present a danger to themselves or others. When people present a danger to themselves or others, we must reduce their access to lethal means and ensure they have access to mental health services and supports.

If you or a loved one are thinking about suicide, please know that you are not alone and help is available 24/7 by calling the National Suicide Prevention Lifeline at 1-800-273-TALK or through the Crisis Text Line by texting HOME to 741741. Next July, the new Mental Health Crisis Line 9-8-8 will take effect. By expanding the crisis line and investing in our Nation's crisis care infrastructure, we have the opportunity to prevent suicides and save lives.

Today, on World Suicide Prevention Day, we remember those whom we lost to suicide, and we reconfirm our support for the millions of Americans who struggle with thoughts of suicide, who are suicide attempt survivors, suicide loss survivors, and those who are working steadfastly to prevent suicide.

NOW, THEREFORE, I, JOSEPH R. BIDEN JR., President of the United States of America, by virtue of the authority vested in me by the Constitution and the laws of the United States, do hereby proclaim September 10, 2021, as World Suicide Prevention Day. I call upon all Americans, communities, organizations, and all levels of government to join me in creating hope through action and committing to preventing suicide across America.

IN WITNESS WHEREOF, I have hereunto set my hand this ninth day of September, in the year of our Lord two thousand twenty-one, and of the Independence of the United States of America the two hundred and forty-sixth.

[FR Doc. 2021-19923

Filed 9-13-21; 8:45 am]

Billing code 3295-F1-P